DEPARTMENT OF HOMELAND SECURITY

Coast Guard

[Docket No. USCG-2011-0619]

Extension of Public Comment Period; Mechanisms of Compliance With United States Citizenship Requirements for the Ownership of Vessels Eligible To Engage in Restricted Trades by Publicly Traded Companies

AGENCY: Coast Guard, DHS.

ACTION: Notice of extension of public comment period.

SUMMARY: On November 3, 2011, the Coast Guard published a Notice and Request for Comments regarding the mechanisms of compliance with United States citizenship requirements for the ownership of vessels eligible to engage in restricted trades by publicly traded companies. In that notice, the public comment period was set to expire on February 1, 2012. In today's action, the Coast Guard is providing notice that the public comment period is extended until April 2, 2012. This extension will provide the public with additional time and opportunity to provide the Coast Guard with information regarding the relevant compliance mechanisms employed by companies with a wide variety of complex organizational structures and trading practices.

DATES: Comments and related material must either be submitted to our online docket via http://www.regulations.gov on or before April 2, 2012, or reach the Docket Management Facility by that date.

ADDRESSES: You may submit comments identified by docket number USCG-2011-0619 using any one of the following methods:

(1) Federal eRulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329. To avoid duplication, please use only one of these four methods. See the “Public Participation and Request for Comments” portion of the SUPPLEMENTARY INFORMATION section below for instructions on submitting comments.

FOR FURTHER INFORMATION CONTACT: If you have questions on this notice, call or email Mr. Douglas Cameron, United States Coast Guard, National Vessel Documentation Center; telephone (304) 271-2506; e-mail Douglas.G.Cameron@uscg.mil. If you have questions on viewing or submitting material to the docket, call Ms. Renee V. Wright, Program Manager, Docket Operations, telephone (202) 366-9826.

SUPPLEMENTARY INFORMATION:

Public Participation and Request for Comments

We encourage your participation by submitting comments and related materials. All comments received will be posted, without change, to http://www.regulations.gov and will include any personal information you have provided.

Submitting comments: If you submit comments, please include the docket number for the notice (USCG-2011-0619), indicate the specific section of the document to which each comment applies, and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, click on the “Submit a Comment” box, which will then become highlighted in blue. In the “Document Type” drop down menu select “Notices” and insert “USCG-2011-0619” in the “Keyword” box. Click “Search,” and then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period.

Viewing comments and documents: To view comments and documents mentioned in this notice as being available in the docket, go to http://www.regulations.gov, click on the “Read Comments” box, which will then become highlighted in blue. In the “Keyword” box insert “USCG-2011-0619” and click “Search.” Click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Basis and Purpose

On November 3, 2011, the Coast Guard published a Notice and Request for Comments regarding the mechanisms of compliance with United States citizenship requirements for the ownership of vessels eligible to engage in restricted trades by publicly traded companies. In that notice, the public comment period was set to expire on February 1, 2012.

On December 22, 2011, the Coast Guard received a public comment requesting an extension of the comment period due to the complex nature of the information requested in the notice. Specifically, the commenter noted the complexity associated with the compliance mechanisms employed by companies that utilize a wide variety of organizational structures, and the additional complexity of the stock trading industry.

The Coast Guard believes that an extension of the comment period will enable the public to provide more thorough and useful information. Accordingly, the Coast Guard is extending the deadline for public comments on the notice until April 2, 2012.

This notice is issued under authority of 5 U.S.C. 552(a) and 33 CFR 1.05-1.

Dated: January 10, 2012.
Timothy V. Skuby,
Director, National Vessel Documentation Center, U.S. Coast Guard.

[FR Doc. 2012-1032 Filed 1-19-12; 8:45 am]

BILLING CODE 9110-04-P